FEDERAL HOUSING FINANCE BOARD

Sunshine Act Meeting; Cancellation

Federal Register Citation of Previous Announcement: 66 FR 10503, February 15, 2001.

Previously Announced Time and Date of the Meeting: 2 a.m., Wednesday, February 28, 2001.

Cancellation of the Meeting: Notice is hereby given of the cancellation of the Board of Directors meeting scheduled for February 28, 2001.

FOR FURTHER INFORMATION CONTACT: Elaine L. Baker, Secretary to the Board, (202) 408-2837.

James L. Bothwell,
Managing Director.

[FR Doc. 01-4476 Filed 2-20-01; 10:23 am]

BILLING CODE 6725-01-P